DEPARTMENT OF HOMELAND SECURITY

Coast Guard

33 CFR Part 117

[Docket No. USCG-2018-0770]

Drawbridge Operation Regulation; Youngs Bay and Lewis and Clark River, Astoria, OR

AGENCY: Coast Guard, DHS.

ACTION: Notice of deviation from drawbridge regulation.

SUMMARY: The Coast Guard has issued a temporary deviation from the operating schedule that governs three bridges at Astoria, OR; they include the US 101 highway bridge (Youngs Bay Bridge) across Youngs Bay, mile 0.7, the Oregon State highway bridge (Old Youngs Bay Bridge) across Youngs Bay, mile 2.4, foot of Fifth Street, and the Oregon State highway bridge (Lewis and Clark River Bridge) across the Lewis and Clark River, mile 1.0. The deviation allows the three subject bridges' owner to remove the bridge operator during the late evening and early morning hours. This deviation allows the bridge to open during weekends and nighttime hours after receiving a 2 hour advance notice.

DATES: This deviation is effective without actual notice from October 1, 2018 to 7 a.m. on March 19, 2019. For the purposes of enforcement, actual notice will be used from 7 a.m. on September 22, 2018, until October 1, 2018.

ADDRESSES: The docket for this deviation, USCG-2018-0770 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Oregon Department of Transportation (ODOT) owns the Youngs Bay Bridge across Youngs Bay, mile 0.7, Old Youngs Bay Bridge across Youngs Bay, mile 2.4, foot of Fifth Street, and the Lewis and Clark River Bridge across the Lewis and Clark River, mile 1.0. ODOT has requested this temporary deviation from the operating schedule while a rule change is being reviewed for approval. The three subject bridges are within one mile of each other, and currently open on signal for the passage of vessels with one half-hour notice by marine radio, telephone, or other suitable means. These three bridges are operated by the Lewis and Clark River bridge operator in accordance with 33 CFR 117.899.

This deviation will allow ODOT to operate without a bridge operator attending the three subject bridges until an opening request has been received. This deviation authorizes ODOT's bridge operator to open the subject bridges within two hours after receiving a request for an opening from 5 p.m. on Friday to 7 a.m. on Monday, including all Federal holidays, starting at 7 a.m. on September 22, 2018, through 7 a.m. on March 19, 2019. The Youngs Bay Bridge provides a vertical clearance approximately 37 feet above mean high water when in the closed-to-navigation position. The Old Youngs Bay Bridge provides a vertical clearance approximately 19 feet above mean high water when in the closed-to-navigation position. The Lewis and Clark River Bridge provides a vertical clearance of 17 feet above mean high water when in the closed-to-navigation position. Vessels operating on Youngs Bay and the Lewis and Clark River range from small recreational vessels, sailboats, tribal fishing boats and small commercial fishing vessels.

Vessels able to pass through the subject bridges in the closed-to-navigation position may do so at any time. The bridges will not be able to open for emergencies from 5 p.m. on Friday to 7 a.m. on Monday unless a two hour notice is given, and there is no immediate alternate route for vessels to pass. The Coast Guard will inform the users of the waterway, through our Local and Broadcast Notices to Mariners, of the change in operating schedule for the bridge so that vessel operators can arrange their transits to minimize any impact caused by the temporary deviation.

In accordance with 33 CFR 117.35(e), the drawbridges must return to their regular operating schedule immediately at the end of the effective period of this temporary deviation. This deviation from the operating regulations is authorized under 33 CFR 117.35.

Dated: September 21, 2018.
Steven M. Fischer,
Bridge Administrator, Thirteenth Coast Guard District.

[FR Doc. 2018-20985 Filed 9-28-18; 8:45 am]

BILLING CODE 9110-04-P